DEPARTMENT OF HEALTH AND HUMAN SERVICES

Agency for Healthcare Research and Quality

Contract Review Meeting

In accordance with section 10(a) of the Federal Advisory Committee Act as amended (5) U.S.C., Appendix 2), announcement is made of an Agency for Healthcare Research and Quality (AHRQ) Technical Review Committee (TRC) meeting. This TRC's charge is to provide review of contract proposals and recommendations to the Director, AHRQ, regarding the technical merit of proposals submitted in response to a Request for Proposals (RFPs) regarding “General Research and Support Services”. The RFP was published in the Commerce Business Daily on May 17, 2000.

The upcoming TRC meeting will be closed to the public in accordance with the Federal Advisory Committee Act (FACA), section 10(d) of 5 U.S.C., Appendix 2, implementing regulations, and procurement regulations, 41 CFR 101-6.1023 and 48 CFR section 315.604(d). The discussions at this meeting of contract proposals submitted in response to the above-referenced RFP are likely to reveal proprietary information and personal information concerning individuals associated with the proposals. Such information is exempt from disclosure under the above-cited FACA provision that protects the free exchange of candid views, and under the procurement rules that prevent undue interference with Committee and Department operations.

Name of TRC: The Agency for Healthcare Research and Quality—General Research and Support Services”.

Date: August 16 & 17, 2000 (Closed to the public).

Place: Agency for Healthcare Research and Quality, 6010 Executive Blvd., 4th Floor Conference Center, Room B, Rockville, Maryland 20852.

Contact Person: Anyone wishing to obtain information regarding this meeting should contact Tina Woodward, Division of Administrative Services, Office of Management, Agency for Healthcare Research and Quality, 2101 East Jefferson Street, Suite 601, Rockville, Mayland, 20852, 301-594-0342.

This notice is being published less than 15 days prior to the August 16-17 meeting due to the time constraints of reviews and funding cycles.

Dated: July 27, 2000.
John M. Eisenberg,
Director.

[FR Doc. 00-19490 Filed 8-1-00; 8:45 am]

BILLING CODE 4160-90-M